DEPARTMENT OF COMMERCE

Foreign-Trade Zones Board

[Order No. 1689]

Grant of Authority For Subzone Status Materials Science Technology, Inc. (Specialty Elastomers and Fire Retardant Chemicals) Conroe, Texas

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the City of Conroe, Texas, grantee of FTZ 265, has made application to the Board for authority to establish a special-purpose subzone at the specialty elastomer manufacturing and distribution facility of Materials Science Technology, Inc., located in Conroe, Texas, (FTZ Docket 46-2009, filed October 27, 2009);

Whereas, notice inviting public comment has been given in the Federal Register (74 FR 57149, 11/4/2009) and the application has been processed pursuant to the FTZ Act and the Board's regulations; and,

Whereas, the Board adopts the findings and recommendations of the examiner's report, and finds that the requirements of the FTZ Act and Board's regulations are satisfied, and that the proposal is in the public interest;

Now, therefore, the Board hereby grants authority for subzone status for activity related to the manufacturing and distribution of specialty elastomers and fire retardant chemicals at the facility of Materials Science Technology, Inc., located in Conroe, Texas (Subzone 265C), as described in the application and Federal Register notice, subject to the FTZ Act and the Board's regulations, including Section 400.28.

Signed at Washington, DC, this 22nd day of June 2010.
Paul Piquado
Acting Deputy Assistant Secretary for Import Administration, Alternate Chairman, Foreign-Trade Zones Board.

ATTEST:

Elizabeth Whiteman,
Acting Executive Secretary.

[FR Doc. 2010-16914 Filed 7-9-10; 8:45 am]

BILLING CODE P